DEPARTMENT OF THE INTERIOR

Bureau of Land Management

[LLNM-921200-L5110-GA0000-LVEMG12CG300; NMNM-126813]

Notice of Competitive Coal Lease Sale NMNM-126813, NM

AGENCY: Bureau of Land Management, Interior.

ACTION: Notice.

SUMMARY: Notice is hereby given that the Department of the Interior, Bureau of Land Management (BLM), New Mexico State Office, in conjunction with the Farmington District Office, will offer certain coal resources in the tract described below in McKinley County, New Mexico, for competitive sale by sealed bid in accordance with the provisions of the Mineral Leasing Act of 1920, as amended.

DATES: The lease sale will be held at 10 a.m., Wednesday, August 14, 2013. Sealed bids must be submitted on or before 9 a.m. on August 14, 2013.

ADDRESSES: The lease sale will be held in the BLM Conference Room, New Mexico State Office, 301 Dinosaur Trail, Santa Fe, NM 87508. Sealed bids must be submitted to: Cashier, New Mexico State Office, 301 Dinosaur Trail, Santa Fe, NM 87508.

FOR FURTHER INFORMATION CONTACT: Ida T. Viarreal at 505-954-2163, or iviarrea@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This coal lease sale is being held in response to a lease by application filed by Peabody Natural Resources Company (Peabody). The Federal coal reserves to be offered consist of all reserves recoverable by surface mining methods in the following described lands in McKinley County, New Mexico:

New Mexico Principal Meridian

T. 17 N., R. 9 W.,

Sec. 34, ALL;

Containing 640 acres more or less.

The tract contains an estimated 9.2 million tons of recoverable coal reserves, occurring in five seams in the Cleary Coal Member of the basal Menefee Formation. The coal is ranked as subbituminous B or C coal. The estimated weighted average quality of all seams (as received) is as follows: 9,856 BTU/lb., 16.5 percent moisture, 13.2 percent ash, 36.9 percent fixed carbon, 33.4 percent volatile matter, and 1.32 percent sulfur. The tract will be leased to the qualified bidder submitting the highest cash offer provided that the high bid meets or exceeds the fair market value of the tracts as determined by the authorized officer after the sale. No bid that is less than $100 per acre, or fraction thereof, will be considered. This $100 per acre is a regulatory minimum, and is not intended to reflect fair market value of the tracts.

The sealed bids should be sent by certified mail, return receipt requested, or should be hand delivered to the Cashier, New Mexico State Office, at the address given above and clearly marked “Sealed Bid for NMNM 126813 Coal Sale—Not to be opened before 10 a.m., August 14, 2013.” The cashier will issue a receipt for each hand delivered sealed bid. Bids received after 9 a.m., August 14, 2013, will not be considered. If identical high sealed bids are received, the tying bidders will be requested to submit follow-up sealed bids until a high bid is received. All tie-breaking sealed bids must be within 15 minutes following the sale official's announcement at the sale that identical sealed bids have been received. Prior to lease issuance, the high bidder, if other than the applicant, must pay the BLM the cost recovery fees in the amount of $107,642.17 in addition to all processing costs the BLM incurs after the date of this sale notice (43 CFR 3473.2). If the high bidder is other than Peabody, the BLM would then refund to Peabody the amount of $107,642.17 previously paid by Peabody.

There is one qualified surface owner. A consent document from the qualified surface owner has been filed and verified by the BLM and meets the criteria as required by the regulations. A copy of the consent is attached to the detailed statement of sale. The lands within the lease tract which consent is filed are shown below:

T. 17 N., R. 9 W., New Mexico Principal Meridian

Sec. 34, ALL;

The lease issued as a result of this offering will require payment of an annual rental of $3 per acre or fraction thereof, and a royalty payable to the United States of 12½ percent of the value of the coal removed from a surface mine and 8 percent of the value of the coal removed from an underground mine. The value of the coal will be determined in accordance with 30 CFR part 1206, subpart F, 1206.250 et seq. Bidding instructions for the offered tracts are included in the Detailed Statement of Coal Lease Sale. Copies of the Statement, which includes detailed geological information on the coals and surface owners, are available upon request in person or by mail from the New Mexico State Office at 301 Dinosaur Trail, Santa Fe, NM 87508 or the Farmington District Office at 6251 College Blvd. Ste. A., Farmington, NM 87402. The case files are available for inspection during normal business hours only at the New Mexico State Office.

Jesse J. Juen,
State Director.

[FR Doc. 2013-16397 Filed 7-9-13; 8:45 am]

BILLING CODE 4310-FB-P